DEPARTMENT OF HEALTH AND HUMAN SERVICES

Centers for Disease Control and Prevention

[Program Announcement 01116]

Centers for Public Health Preparedness; Notice of Availability of Funds

A. Purpose

The Centers for Disease Control and Prevention (CDC) announces the availability of fiscal year (FY) 2001 funds for a cooperative agreement program for a Center for Public Health Preparedness. This program addresses all the Healthy People 2010 focus areas, specifically Public Health Infrastructure and contributes to national goals to eliminate health disparities.

The purpose of this program is to facilitate the development of an integrated national system of Centers for Public Health Preparedness, at the University of Findlay, focused on improving the capacity of the front-line public health worker to respond to current, new and emerging public health threats. This program is aimed at providing professional public health workforce development services to personnel at State and local health departments, community-based organizations and other entities charged to carry out CDC programs in general and bioterrorism and infectious disease control and prevention, in particular. The program is intended to develop model public health practice curricula to support preparedness for bioterrorism and disease outbreak investigation, and to support the National Public Health Workforce Development Strategic Plan's vision of a competent workforce able to deliver the essential public health services.

B. Eligible Applicants

Assistance will be provided only to the University of Findlay: National Center for Terrorism Preparedness. No other applications are solicited.

Eligibility is limited to the University of Findlay because Fiscal year 2001 and Federal appropriations specifically directs CDC to award this applicant funds to conduct a project “to train and prepare underserved populations and facilities to react to bioterrorism and related incidents”.

Note: Title 2 of the U.S. Code, chapter 26, section 1611, states that an organization described in section 501(c)(4) of the Internal Revenue Code of 1986 that engages in lobbying activities is not eligible to receive Federal funds constituting an award, grant, cooperative agreement, contract, loan, or any other form.

C. Availability of Funds

Approximately $862,705 is available in FY 2001 to fund this ward. It is expected that the award will begin on or about August 31, 2001, and will be made for a 12-month budget period. The funding estimate may change.

D. Where To Obtain Additional Information

To obtain additional information, or business management technical assistance contact: Juanita Crowder, Grants Management Specialist, Grants Management Branch, Procurement and Grants Office, Announcement 01116, Centers for Disease Control and Prevention (CDC), 2920 Brandywine Road, Room 3000, Mailstop K-75, Atlanta, GA 30341-4146, Telephone: (770) 488-2734, Email address: jcrowder@cdc.gov.

For program technical assistance, contact: Gail Williams, MPH, Public Health Practice Program Office, Centers for Disease Control and Prevention (CDC), 4770 Buford Hwy., NE., Mailstop K-38, Atlanta, GA 30341-3717, Telephone: (770) 488-8166, Email address: gdw5@cdc.gov.

Dated: June 19, 2001.
John L. Williams,
Director, Procurement and Grants Office, Centers for Disease Control and Prevention (CDC).

[FR Doc. 01-15822 Filed 6-22-01; 8:45 am]

BILLING CODE 4163-18-P